DEPARTMENT OF HEALTH AND HUMAN SERVICES

Centers for Disease Control and Prevention

Board of Scientific Counselors, National Center for Health Statistics (BSC, NCHS)

AGENCY: Centers for Disease Control and Prevention (CDC), Department of Health and Human Services (HHS).

ACTION: Notice of meeting.

SUMMARY: In accordance with the Federal Advisory Committee Act, the CDC announces the following meeting for the Board of Scientific Counselors, National Center for Health Statistics (BSC, NCHS). This meeting is open to the public.

DATES: The meeting will be held on February 10, 2022, from 11:00 a.m. to 5:15 p.m., EST (times subject to change).

ADDRESSES: Instructions to access the meeting are posted here: https://www.cdc.gov/nchs/about/bsc/bsc_meetings.htm.

FOR FURTHER INFORMATION CONTACT: Rebecca Hines, M.H.S., Executive Secretary, NCHS/CDC, Board of Scientific Counselors, 3311 Toledo Road, Room 2627, Hyattsville, Maryland 20782, Telephone: (301) 458-4717; Email: RSHines@cdc.gov.

SUPPLEMENTARY INFORMATION: Purpose: The Board is charged with providing advice and making recommendations to the Secretary, Department of Health and Human Services; the Director, CDC; and the Director, NCHS, regarding the scientific and technical program goals and objectives, strategies, and priorities of NCHS.

Matters to be Considered: The meeting agenda will include welcome remarks and a Center update by the NCHS Director; a welcome and introductions for five new Board members who will be attending their first BSC meeting; discussion with members on plans and potential revisions to NCHS surveys, including the addition of new questions; a report out from the Population Health Survey Planning, Methodology and Data Presentation (PHSPMDP) Workgroup on their assessment of the use of panel survey data by NCHS; an update on approaches to enhancing identification of opioid-Involved hospitalizations with clinical data and notes from electronic health records, and; an update on several NCHS Programs. Agenda items are subject to change as priorities dictate.

Meeting Information: Please visit the BSC website for details: https://www.cdc.gov/nchs/about/bsc/bsc_meetings.htm for more information on the meeting agenda, including instructions for accessing the live meeting broadcast.

The Board will reserve time for public comment at the end of the day.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-26317 Filed 12-2-21; 8:45 am]

BILLING CODE 4163-18-P